DEPARTMENT OF AGRICULTURE

Rural Utilities Service

7 CFR Part 1726

Electric System Construction Policies and Procedures

CFR Correction

In Title 7 of the Code of Federal Regulations, Parts 1600 to 1759, revised as of January 1, 2015, on page 252, in § 1726.14, the definition of “minor error or irregularity” is reinstated to read as follows:

§ 1726.14 Definitions.

* * * * *

Minor error or irregularity means a defect or variation in a bid that is a matter of form and not of substance. Errors or irregularities are “minor” if they can be corrected or waived without being prejudicial to other bidders and when they do not affect the price, quantity, quality, or timeliness of construction. A minor error or irregularity is not an exception for purposes of determining whether a bid is responsive.

* * * * *

[FR Doc. 2015-33020 Filed 12-30-15; 8:45 am]

BILLING CODE 1505-01-D